DEPARTMENT OF ENERGY

Federal Energy Regulatory Commission

[Docket No. CP14-347-000]

Magnolia LNG, LLC; Notice of Onsite Environmental Review

On May 21, 2014, the Office of Energy Projects staff will be in Calcasieu Parish, Louisiana (south of Lake Charles) to gather data related to the environmental analysis of the proposed Magnolia LNG Project site. Staff will examine selected site areas that are only accessible by all-terrain vehicles.

All interested parties planning to attend must provide their own transportation. Those attending should meet at the following location:

• Wednesday, May 21, 2014 at 8:00 a.m. (CDT) meet at the intersection of Big Lake Road and Henry Pugh Road in Lake Charles, Louisiana.

Please use the FERC's free eSubscription service to keep track of all formal issuances and submittals in these dockets. This can reduce the amount of time you spend researching proceedings by automatically providing you with notification of these filings, document summaries, and direct links to the documents. To register for this service, go to www.ferc.gov/docs-filing/esubscription.asp.

Information about specific onsite environmental reviews is posted on the Commission's calendar at http://www.ferc.gov/EventCalendar/EventsList.aspx. For additional information, contact Office of External Affairs at (866) 208-FERC.

Dated: May 7, 2014.
Kimberly D. Bose,
Secretary.

[FR Doc. 2014-11014 Filed 5-13-14; 8:45 am]

BILLING CODE 6717-01-P